DEPARTMENT OF LABOR

Employment and Training Administration

[SGA/DFA-PY-07-08]

Solicitation for Grant Applications (SGA); Office of Apprenticeship and the Women's Bureau SGA

AGENCY: Employment and Training Administration (ETA), Labor.

ACTION: Notice: Amendment to SGA/DFA-PY-07-08.

SUMMARY: The Employment and Training Administration published a document in the Federal Register on April 22, 2008, announcing the availability of funds and solicitation for grant applications (SGA) for the Women in Apprenticeship and Nontraditional Occupations. This notice is a second amendment to the SGA and it amends a Web site link in “Section IV., Application and Submission Information,” under the specific heading, “Electronic Submissions.”

FOR FURTHER INFORMATION CONTACT: James Stockton, Grant Officer, Division of Federal Assistance, at (202) 693-3335.

Supplementary Information Correction: In the Federal Register of April 22, in FR Doc. E8-8651. On page 21652 under the second (2nd) paragraph titled, “Electronic Submissions,” the Web site link is changed from “Get Started,” with registration steps at http:www.grants.gov/GetStarted to “Get Registered” http://www.grants.gov/applicants/get_registered.jsp.

EFFECTIVE DATE: This notice is effective May 12, 2008.

Signed at Washington, DC, this 6th day of May, 2008.
James W. Stockton,
Grant Officer.

[FR Doc. E8-10497 Filed 5-9-08; 8:45 am]

BILLING CODE 4510-FN-P